FEDERAL TRADE COMMISSION

Granting of Request for Early Termination of the Waiting Period Under the Premerger Notification Rules

Section 7A of the Clayton Act, 15 U.S.C. 1A18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
02-APR-10 | 20100474 | G | Cephalon, Inc.
|  | G | Ception Therapeutics, Inc.
|  | G | Ception Therapeutics, Inc.
| 20100478 | G | Alliant Techsystems Inc.
|  | G | Michael M. Noell.
|  | G | Blackhawk Industries Product Group Unlimited, LLC.
| 20100496 | G | CCMP Capital Advisors, II (AV-2) L.P.
|  | G | Chaparral Energy, Inc.
|  | G | Chaparral Energy, Inc.
| 20100508 | G | ABRY Partners VI, L.P.
|  | G | RCN Corporation.
|  | G | RCN Corporation.
| 20100510 | G | Phillips-Van Heusen Corporation.
|  | G | Apax Europe VI-A, L.P.
|  | G | Tommy Hilfiger B.V.
|  | G | Tommy Hilfiger US Inc.
| 20100511 | G | Apax Europe VI-A, L.P.
|  | G | Phillips-Van Heusen Corporation.
|  | G | Phillips-Van Heusen Corporation.
| 20100512 | G | Apax US VII, L.P.
|  | G | Phillips-Van Heusen Corporation.
|  | G | Phillips-Van Heusen Corporation.
| 20100514 | G | Fred Gehring.
|  | G | Phillips-Van Heusen Corporation.
|  | G | Phillips-Van Heusen Corporation.
| 20100516 | G | Baker Brothers Life Sciences, L.P.
|  | G | Auxilium Pharmaceuticals, Inc.
|  | G | Auxilium Pharmaceuticals, Inc.
| 20100518 | G | ConAgra Foods, Inc.
|  | G | Sun Capital Partners II, LP.
|  | G | Elan Holdings, Inc.
05-APR-10 | 20100517 | G | Carl C. Icahn.
|  | G | Lions Gate Entertainment Corp.
|  | G | Lions Gate Entertainment Corp.
| 20100519 | G | Glencore Holding AG.
|  | G | Xstrata plc.
|  | G | Chestfleld Coal Resources Ltd.
|  | G | Tikolan Ltd.
|  | G | Milner House.
|  | G | Simkana Ltd.
|  | G | Merani Holding Ltd.
|  | G | Wichita Holding Ltd.
|  | G | Xstrata Coal (Bermuda) Ltd.
| 20100520 | G | CCMP Capital Investors II, L.P.
|  | G | infoGroup Inc.
|  | G | infoGroup Inc.
| 20100528 | G | Viterra Inc.
|  | G | Dakota Growers Pasta Company, Inc.
|  | G | Dakota Growers Pasta Company, Inc.
| 20100530 | G | Catterton Partners VI, L.P.
|  | G | Exxon Mobil Corporation.
|  | G | ExxonMobii Oil Corporation.
| 20100539 | G | Roark Capital Partners II, LP.
|  | G | Gemini Investors III, L.P.
|  | G | Wingstop Holdings, Inc.
| 20100542 | G | Trident III, L.P.
|  | G | Max Capital Group Limited.
|  | G | Max Capital Group Limited.
| 20100548 | G | The Chubb Corporation.
|  | G | Max Capital Group Ltd.
|  | G | Max Capital Group Ltd.
06-APR-10 | 20100538 | G | Jian Zhao.
|  | G | Texas Seamless, LLC.
|  | G | Texas Seamless, LLC.
| 20100547 | G | CHS Private Equity V LP.
|  | G | Audax Private Equity Fund II, L.P.
|  | G | Thermon Holding Corp.
08-APR-10 | 20100543 | G | Perrigo Company.
|  | G | Paul B. Manning.
|  | G | PBM Holdings, Inc.
|  | G | PBM Nutritionals, LLC.
| 20100545 | G | Affiliated Managers Group, Inc.
|  | G | The Northwestern Mutual Life Insurance Company.
|  | G | Pantheon Capital (Asia) Limited.
|  | G | Pantheon Holdings Limited.
|  | G | Pantheon Ventures Inc.
| 20100570 | G | Transcend Services, Inc.
|  | G | Spheris Holding II, Inc.
|  | G | Spheris Holding II, Inc.
09-APR-10 | 20100541 | G | Golden Gate Capital Opportunity Fund, L.P.
|  | G | Brinker International, Inc.
|  | G | Chili's, lnc.
|  | G | Brinker Restaurant Corporation.
|  | G | Brinker Connecticut Corporation.
|  | G | Brinker North Carolina, Inc.
|  | G | Brinker Rhode Island, Inc.
|  | G | Brinker South Carolina, Inc.
|  | G | Brinker Indiana, Inc.
|  | G | Brinker Ohio, Inc.
|  | G | Brinker Arkansas, Inc.
|  | G | Brinker Florida, Inc.
|  | G | Brinker Georgia, Inc.
|  | G | Brinker Iowa, Inc.
|  | G | Chili's of Kansas, Inc.
|  | G | Brinker of Louisiana, Inc.
|  | G | Brinker of Howard County, Inc.
|  | G | Brinker Missouri, Inc.
|  | G | Brinker Michigan, Inc.
|  | G | Brinker Mississippi, Inc.
|  | G | Brinker New Jersey, Inc.
|  | G | Brinker Oklahoma, Inc.
|  | G | Brinker Penn Trust.
|  | G | Brinker Virginia, Inc.
|  | G | Brinker Texas, Inc.
| 20100561 | G | Sterling Group Partners II, L.P.
|  | G | General Electric Company.
|  | G | Distribution International, Inc.
| 20100567 | G | Golden Gate Capital Opportunity Fund, L.P.
|  | G | Atrium Corporation.
|  | G | Atrium Corporation.
12-APR-10 | 20100564 | G | Centerbridge Capital Partners, L.P.
|  | G | Wells Fargo & Company.
|  | G | American Rental Holdings Inc.
13-APR-10 | 20100502 | G | Massey Energy Company.
|  | G | Richard B. Gifliam.
|  | G | Cloverlick Management LLC.
|  | G | Dorchester Associates LLC.
|  | G | Harlan Reclamation Services LLC.
|  | G | Powell River Resources Corporation.
|  | G | Cumberland Resources Corporation.
|  | G | Maggard Branch Coal LLC.
|  | G | Roda Resources LLC.
|  | G | Meadow Branch Coal LLC.
|  | G | Nine Mile Spur LLC.
|  | G | Resource Development LLC.
|  | G | Resource Land Company LLC.
| 20100532 | G | Blue Harbour Strategic Value Partners Offshore, Ltd.
|  | G | Novell, Inc.
|  | G | Novell, Inc.
| 20100573 | G | Silver Point Capital Offshore Master Fund, L.P.
|  | G | Cooper-Standard Holdings Inc.
|  | G | Cooper-Standard Holdings Inc.
| 20100574 | G | Barclays PLC.
|  | G | Cooper-Standard Holdings Inc.
|  | G | Cooper-Standard Holdings Inc.
| 20100575 | G | ORIX Corporation.
|  | G | The PNC Financial Services Group, Inc.
|  | G | Red Capital Advisors, LLC.
|  | G | Red Capital Community Development Company, LLP.
|  | G | Red Capital Markets, Inc.
|  | G | Red Mortgage Capital, Inc.
14-APR-10 | 20100540 | G | Energy Capital Partners II-A, LP.
|  | G | BG Group plc.
|  | G | BG MP Partners I, LLC.
|  | G | BG Lake Road Holdings GP, LLC.
|  | G | c/o BG North America, LLC.
|  | G | BG MP Holdings, LLC.
|  | G | BG Dighton Power, LLC.
|  | G | BG Lake Road Holdings LP, LLC.
| 20100546 | G | Leap Wireless International, Inc.
|  | G | STX Wireless, LLC.
|  | G | STX Wireless, LLC.
15-APR-10 | 20100544 | G | LNK Partners, L.P.
|  | G | Phillips-Van Heusen Corporation.
|  | G | Phillips-Van Heusen Corporation.
16-APR-10 | 20100563 | G | Wells Fargo & Company.
|  | G | GMAC Inc.
|  | G | GMAC Commercial Finance LLC.
19-APR-10 | 20100571 | G | ABRY Partners VI, L.P.
|  | G | Automated HealthCare Solutions, LLC.
|  | G | Automated HealthCare Solutions, LLC.
| 20100572 | G | Communications Infrastructure Investments, LLC.
|  | G | AGL Resources Inc.
|  | G | AGL Networks, LLC.
| 20100579 | G | OCM Opportunities ALS Holdings, L.P.
|  | G | Aleris International, Inc.
|  | G | ACH1 Holding Co.
| 20100580 | G | Babcock International Group plc.
|  | G | VT Group plc.
|  | G | VT Group plc.
| 20100583 | G | Coastal Villages Region Fund.
|  | G | Bernt O. Bodal.
|  | G | American Seafoods, L.P.
20-APR-10 | 20100591 | G | Targa Resources Partners LP.
|  | G | Targa Resources Investments Inc.
|  | G | Targa Straddle GP LLC.
|  | G | Targa Straddle LP.
|  | G | Targa Midstream Services Ltd. Partnership.
|  | G | Targa Permian LP.
|  | G | Targa Gas Marketing LLC.
21-APR-10 | 20100565 | G | Schneider Electric SA.
|  | G | ALSTOM.
|  | G | ALSTOM Sextant 5.
22-APR-10 | 20100521 | G | General Dynamics Corporation.
|  | G | Frank D. Winkler.
|  | G | EBV Explosives Environmental Company.
23-APR-10 | 20100092 | G | Equinix, Inc.
|  | G | Switch & Data Facilities Company, Inc.
|  | G | Switch & Data Facilities Company, Inc.
| 20100585 | G | Lee Equity Partners Fund, L.P.
|  | G | Charlesbank Equity Fund V, Limited Partnership.
|  | G | PMI Holdings, Inc.
| 20100589 | G | Picasso Parent Company, Inc.
|  | G | BWAY Holding Company.
|  | G | BWAY Holding Company.
| 20100595 | G | AZZ Incorporated.
|  | G | North American Galvanizing & Coatings, Inc.
|  | G | North American Galvanizing & Coatings, Inc.
| 20100596 | G | Kratos Defense & Security Solutions, Inc.
|  | G | Altus Capital Partners SBIC Parent, L.P.
|  | G | Gichner Holdings, Inc.
| 20100599 | G | Oak Hill Capital Partners III, LP.
|  | G | RNB Communications, Inc.
|  | G | RNB Communications, Inc.
| 20100600 | G | H Partners, LP.
|  | G | Six Flags, Inc.
|  | G | Six Flags, Inc.
| 20100601 | G | BHR Capital Holdings, LLC.
|  | G | Six Flags, Inc.
|  | G | Six Flags, Inc.
| 20100607 | G | Apache Corporation.
|  | G | Devon Energy Corporation.
|  | G | Devon Energy Production Company, L.P.
|  | G | Bonito Pipe Line Company.
|  | G | Devon Energy Petroleum Pipeline Company.
| 20100610 | G | Riverstone/Carlyle Global Energy and Power Fund IV.
|  | G | Halifax Capital Partners II, LP.
|  | G | Taylor Companies, LLC

FOR FURTHER INFORMATION CONTACT: Sandra M. Peay, Contact Representative or Renee Hallman, Contact Representative, Federal Trade Commission, Premerger Notification Office, Bureau of Competition, Room H-303, Washington, DC 20580, (202) 326-3100.

By Direction of the Commission.
Donald S. Clark,
Secretary.

[FR Doc. 2010-10440 Filed 5-5-10; 8:45 am]

BILLING CODE 6750-01-M